DEPARTMENT OF HOMELAND SECURITY

Coast Guard

33 CFR Parts 1, 3, 5, 52, 100, 110, 151, 154, 155, 162, 165, 173, and 174

[USCG-2003-15404]

RIN 1625-ZA00

Navigation and Navigable Waters—Technical, Organizational, and Conforming Amendments

AGENCY: Coast Guard, DHS.

ACTION: Final rule.

SUMMARY: This rule makes editorial and technical changes throughout title 33 of the Code of Federal Regulations (CFR) to update and correct the title before it is revised on July 1, 2003. Our rule updates organization names and addresses, and makes conforming amendments and technical corrections. This rule will have no substantive effect on the regulated public.

DATES: This final rule is effective June 30, 2003.

ADDRESSES: Documents as indicated in this preamble are available for inspection or copying at the Docket Management Facility, (USCG-2003-15404), U.S. Department of Transportation, room PL-401, 400 Seventh Street SW., Washington, DC 20590-0001, between 9 a.m. and 5 p.m., Monday through Friday, except Federal holidays. You may also find this docket on the Internet at http://dms.dot.gov.

FOR FURTHER INFORMATION CONTACT: If you have questions on this rule, call Robert Spears, Project Manager, Standards Evaluation and Development Division (G-MSR-2), Coast Guard, at 202-267-1099. If you have questions on viewing, or submitting material to, the docket, call Dorothy Beard, Chief, Dockets, Department of Transportation, at 202-366-5149.

SUPPLEMENTARY INFORMATION:

Regulatory Information

We did not publish a notice of proposed rulemaking (NPRM) for this regulation. Under 5 U.S.C. 553(b)(B), the Coast Guard finds that good cause exists for not publishing an NPRM. This rule consists only of corrections and editorial, organizational, and conforming amendments to title 33 of the Code of Federal Regulations (CFR). These changes will have no substantive effect on the public; therefore, it is not necessary for us to publish an NPRM and providing an opportunity for public comment. Under 5 U.S.C. 553(d)(3), the Coast Guard finds that, for the same reasons, good cause exists for making this rule effective less than 30 days after publication in the Federal Register.

Discussion of the Rule

Each year title 33 of the Code of Federal Regulations is updated on July 1. This rule, which becomes effective June 30, 2003, corrects organization names and addresses, adds gender-neutral language, revises authority citations for certain parts to reflect our move to the Department of Homeland Security (DHS) in March 2003, and makes other technical and editorial corrections throughout title 33. This rule does not change any substantive requirements of existing regulations.

In the following three paragraphs, we have described revisions that are not self-explanatory name, address or spelling corrections, or gender-neutral changes.

Coast Guard Auxiliary. Unnecessary §§ 5.51 (Damaged equipment or facilities) and 5.53 (Constructive or actual loss) are being removed and § 5.49 (Reimbursement for expenses) is being revised to remove wording that merely reflects current internal procedures but that is not intended to govern those procedures.

National Preparedness for Response Exercise Program (PREP) Guidelines. In §§ 154.1055 and 155.1060, we have provided a Landover, MD address where you can obtain a copy of the Preparedness for Exercise Program (PREP) Guidelines. In addition, we have added a website address in notes to these sections where you may view these guidelines on the Internet. We have also clarified that these guidelines are just one option for complying with facility and vessel response plan exercise requirements in §§ 154.1060 and 155.1065, respectively.

Geographic coordinates. In § 3.40-15, we are revising a segment of the boundary for the New Orleans Marine Inspection Zone and Captain of the Port Zone. That segment, which was written before 1996, referenced the Coast Guard District 8 boundary that was subsequently changed when Districts 2 and 8 merged (61 FR 29958, June 13, 1996). We are also correcting two erroneous references to latitudes. In § 162.117, we corrected a geographic coordinate for a stated location, the De Tour Reef Light. In § 165.151, we converted erroneous minutes symbols to seconds symbols. And in § 165.1181, we eliminated a line containing a duplicate geographic coordinate.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

This rule will have no substantive effect on the regulated public. Therefore, the Coast Guard certifies under 5 U.S.C. 605(b) that this rule will not have a significant economic impact on a substantial number of small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (34)(a) and (b), of the Instruction from further environmental documentation because this rule involves editorial, procedural, and internal agency functions. An “Environmental Analysis Check List” and a “Categorical Exclusion Determination” are available in the docket where indicated under ADDRESSES.

List of Subjects

33 CFR Part 1

Administrative practice and procedure, Authority delegations (Government agencies), Freedom of information, Penalties.

33 CFR Part 3

Organization and functions (Government agencies).

33 CFR Part 5

Volunteers.

33 CFR Part 52

Administrative practice and procedure, Archives and records, Military personnel.

33 CFR Part 100

Marine safety, Navigation (water), Reporting and recordkeeping requirements, Waterways.

33 CFR Part 110

Anchorage grounds.

33 CFR Part 151

Administrative practice and procedure, Oil pollution, Penalties, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 162

Navigation (water), Waterways.

33 CFR Part 165

Harbors, Marine safety, Navigation (water), Reporting and recordkeeping requirements, Security measures, Waterways.

33 CFR Part 173

Marine safety, Reporting and recordkeeping requirements.

33 CFR Part 174

Intergovernmental relations, Marine safety, Reporting and recordkeeping requirements.

For the reasons discussed in the preamble, the Coast Guard amends 33 CFR parts 1, 3, 5, 52, 100, 110, 151, 154, 155, 162, 165, 173, and 174 as follows:

PART 1—GENERAL PROVISIONS

1. The authority citation for part 1, subpart 1.05, is revised to read as follows:

Authority: 5 U.S.C. 552, 553, App. 2; 14 U.S.C. 2, 631, 632, and 633; 33 U.S.C. 471, 499; 49 U.S.C. 101, 322; Department of Homeland Security Delegation No. 0170.

§§ 1.05-1, 1.05-5, 1.05-10, and 1.05-20 [Amended]

2. In subpart 1.05 remove the words “Marine Safety Council”, and add, in their place, the words “Marine Safety and Security Council” in the following places:

a. Section 1.05-1(d).

b. Section 1.05-5 including the section heading.

c. Section 1.05-10(b).

d. Section 1.05-20(a).

§ 1.05-20 [Amended]

3. In addition to amendments set forth in the nomenclature change above, in § 1.05-20(a), remove “/3406”, immediately after “G-LRA”.

PART 3—COAST GUARD AREAS, DISTRICTS, MARINE INSPECTION ZONES, AND CAPTAIN OF THE PORT ZONES

4. The authority citation for part 3 is revised to read as follows:

Authority: 14 U.S.C. 633; Pub. L. 107-296, 116 Stat. 2135; Department of Homeland Security Delegation No. 0170.

§ 3.40-15 [Amended]

5. In § 3.40-15(b), remove the words “88°00′ W. latitude”, “89°10′ N. latitude”, and “Eighth Coast Guard District line; thence west along the Eighth Coast Guard District line” and add, in their place, the words “88°00′ W. longitude”, “89°10′ W. longitude”, and “northern boundary of Montgomery County; thence southwesterly along the northern and western boundaries of Montgomery, Carroll, Holmes, Humphreys, Sharkey, and Issaquena Counties to the Louisiana-Arkansas boundary; thence west along the Louisiana-Arkansas boundary” respectively.

PART 5—COAST GUARD AUXILIARY

6. The authority citation for part 5 is revised to read as follows:

Authority: 14 U.S.C. 633, 892; Pub. L. 107-296, 116 Stat. 2135; Department of Homeland Security Delegation No. 0170.

7. Revise § 5.49 to read as follows.

§ 5.49 Reimbursement for expenses.

Any person whose facility has been offered to and accepted by the Coast Guard may be reimbursed for the actual necessary expenses of operating that facility, in accordance with applicable statutes and the procedures prescribed by the Commandant.

§§ 5.51 and 5.53 [Removed]

8. Remove §§ 5.51 and 5.53.

PART 52—BOARD FOR CORRECTION OF MILITARY RECORDS OF THE COAST GUARD

9. The authority citation for part 52 continues to read as follows:

Authority: 10 U.S.C. 1552; 14 U.S.C. 425.

§§ 52.1, 52.2, and 52.11 [Amended]

10. In part 52, remove the word “Transportation”, and add, in its place, the words “Homeland Security” in the following places:

a. Section 52.1.

b. Section 52.2(a).

c. Section 52.11(a) and (b).

PART 100—SAFETY OF LIFE ON NAVIGABLE WATERS

11. The authority citation for part 100 is revised to read as follows:

Authority: 33 U.S.C. 1233; Department of Homeland Security Delegation No. 0170.

§§ 100.10, 100.25, 100.35, 100.40, and 100.1101 [Amended]

12. In part 100—

a. Add the words “or she” immediately after the word “he” in the following places:

i. Section 100.10.

ii. Section 100.25(a)(1) and (a)(2).

iii. Section 100.35(a).

iv. Section 100.40(a).

v. Section 100.1101(b)(3).

b. Add the words “or her” immediately after the word “his” in the following places:

i. Section 100.25(a).

ii. Section 100.35(a) and (b).

iii. Section 100.1101(b)(3).

c. Add the words “or she” immediately after the word “He” in § 100.25(a)(2).

§ 100.15 [Amended]

13. In § 100.15—

a. In paragraph (b), add the words “or her” immediately after the word “him”;

b. In paragraph (c), remove the words, “Except as in paragraphs (d) and (e) of this section, the” and replace them with the word “The”; and

c. Remove paragraphs (d) and (e), and redesignate paragraph (f) as paragraph (d).

§ 100.102 [Amended]

14. In § 100.102(b)(3) and (b)(4), remove the lower-cased word “guard” and replace it with the initially-capped word “Guard”.

PART 110—ANCHORAGE REGULATIONS

15. The authority citation for part 110 is revised to read as follows:

Authority: 33 U.S.C. 471, 1221 through 1236, 2030, 2035, 2071; 33 CFR 1.05-1(g); Department of Homeland Security Delegation No. 0170.

§ 110.224 [Amended]

16. In paragraph (d)(2), table 110.224(D)(1), replace the word “Suisan” with the word “Suisun”.

PART 151—VESSELS CARRYING OIL, NOXIOUS LIQUID SUBSTANCES, GARBAGE, MUNICIPAL OR COMMERCIAL WASTE, AND BALLAST WATER

17. The authority citation for part 151, subpart D is revised to read as follows:

Authority: 16 U.S.C. 4711; Department of Homeland Security Delegation No. 0170.

§ 151.2025 [Amended]

18. In § 151.2025(b), in the definitions for “NANCPA” and “NISA”, remove the acronym “NANCPA”, and add, in its place, the acronym “NANPCA”.

PART 154—FACILITIES TRANSFERRING OIL OR HAZARDOUS MATERIAL IN BULK

19. The authority citation for part 154 is revised to read as follows:

Authority: 33 U.S.C. 1231, 1321(j)(1)(C), (j)(5), (j)(6), and (m)(2); sec. 2, E.O. 12777, 56 FR 54757; Department of Homeland Security Delegation No. 0170. Subpart F is also issued under 33 U.S.C. 2735.

§ 154.1055 [Amended]

20. Revise § 154.1055(f) to read as follows:

§ 154.1055 Exercises.

* * * * *

(f) Compliance with the National Preparedness for Response Exercise Program (PREP) Guidelines will satisfy the facility response plan exercise requirements. These guidelines are available from the TASC DEPT Warehouse, 33141Q 75th Avenue, Landover, MD 20875 (fax: 301-386-5394, stock number USCG-X0241). Compliance with an alternative program that meets the requirements of paragraph (a) of this section and has been approved under § 154.1060 will also satisfy the facility response plan exercise requirements.

Note to paragraph (f): The PREP guidelines are available online at http://dmses.dot.gov/docimages/pdf1a/198001_web.pdf.

PART 155—OIL OR HAZARDOUS MATERIAL POLLUTION PREVENTION REGULATIONS FOR VESSELS

21. The authority citation for part 155 continues to read as follows:

Authority: 33 U.S.C. 1231, 1321(j); E.O. 11735, 3 CFR, 1971-1975 Comp., p. 793. Sections 155.100 through 155.130, 150.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Pub. L. 101-380.

22. Revise § 155.1060(h) to read as follows:

§ 155.1060 Exercises.

* * * * *

(h) Compliance with the National Preparedness for Response Exercise Program (PREP) Guidelines will satisfy the vessel response plan exercise requirements. These guidelines are available from the TASC DEPT Warehouse, 33141Q 75th Avenue, Landover, MD 20875 (fax: 301-386-5394, stock number USCG-X0241). Compliance with an alternative program that meets the requirements of paragraph (a) of this section and has been approved under § 155.1065 will also satisfy the vessel response plan exercise requirements.

Note to paragraph (h): The PREP guidelines are available online at http://dmses.dot.gov/docimages/pdf1a/198001_web.pdf

PART 162—INLAND WATERWAYS NAVIGATION REGULATIONS

23. The authority citation for part 162 is revised to read as follows:

Authority: 33 U.S.C. 1231; Department of Homeland Security Delegation No. 0170.

§ 162.117 [Amended]

24. In paragraph (a) of § 162.117, replace “45°5′ N” with “45°57′ N”.

PART 165—REGULATED NAVIGATION AREAS AND LIMITED ACCESS AREAS

25-26. The authority citation for part 165 is revised to read as follows:

Authority: 33 U.S.C. 1226, 1231; 50 U.S.C. 191, 195; 33 CFR 1.05-1(g), 6.04-1, 6.04-6, and 160.5; Pub. L. 107-295, 116 Stat. 2064; Department of Homeland Security Delegation No. 0170.

§ 165.151 [Amended]

27. In § 165.151—

a. In paragraph (a)(1), remove the coordinates “41°00′35′ N, 073°37′05′ W” and, in their place, add the coordinates 41°00′35″ N, 073°37′05″ W”.

b. In paragraph (a)(2), remove the coordinates “41°03′11′ N, 073°26′41′ W” and, in their place, add the coordinates “41°03′11″ N, 073°26′41″ W”.

c. In paragraph (a)(3), remove the coordinates “40°53′00′ N, 073°29′13′ W” and, in their place, add the coordinates “41°53′00″ N, 073°29″13″ W”.

d. In paragraph (a)(4), remove the coordinates “41°18′05′ N, 072°02′08′ W” and, in their place, add the coordinates “41°18′05″ N, 072°02″08″ W”.

e. In paragraph (a)(5), remove the coordinates “41°15′07′ N, 072°57′26′ W” and, in their place, add the coordinates “41°15′07″ N, 072°57′26″ W”.

f. In paragraph (a)(6), remove the coordinates “40°17′31′ N, 072°54′48′ W” and, in their place, add the coordinates “40°17′31″ N, 072°54′48″ W”.

g. In paragraph (a)(7), remove the coordinates “41°16′10′ N, 072°36′30′ W” and, in their place, add the coordinates “41°16′10″ N, 072°36′30″ W”.

h. In paragraph (a)(8), remove the coordinates “41°15′56′ N, 072°21′49′ W” and, in their place, add the coordinates “41°15′56″ N, 072°21′49″ W”.

i. In paragraph (a)(9), remove the coordinates “41°17′35′ N, 072°21′20′ W” and, in their place, add the coordinates “41°17′35″ N, 072°21′20″ W”.

j. In paragraph (a)(10), remove the words “barge one, 41°21′01′ N, 072°05′25′ W, barge two, 41°20′58′ N, 072°05′23′ W, barge three, 41°20′53′ N, 072°05′21′ W” and, in their place, add the words “barge one, 41°21′01″ N, 072°05′25″ W, barge two, 41°20′58″ N, 072°05″23″ W, barge three, 41°20′53″ N, 072°05′21″ W”.

k. In paragraph (a)(11), remove the coordinates “41°31′14′ N, 072°04′44′ W” and, in their place, add the coordinates “41°31′14″ N, 072°04′44″ W”.

l. In paragraph (a)(12), remove the coordinates “41°45′34′ N, 072°39′37′ W” and, in their place, add the coordinates “41°45′34″ N, 072°39′37″ W”.

m. In paragraph (a)(13), remove the coordinates “40°51′48′ N, 072°28′30′ W” and, in their place, add the coordinates “40°51′48″ N, 072°28′30″ W”.

n. In paragraph (a)(14), remove the coordinates “40°41′17′ N, 073°00′20′ W” and, in their place, add the coordinates “40°41′17″ N, 073°00′20″ W”.

o. In paragraph (a)(15), remove the coordinates “40°44′38′ N, 073°00′33′ W” and, in their place, add the coordinates “40°44′38″ N, 073°00′33″ W”.

p. In paragraph (a)(16), remove the coordinates “40°35′45′ N, 073°05′23′ W” and, in their place, add the coordinates “40°35′45″ N, 073°05′23″ W”.

q. In paragraph (a)(17), remove the coordinates “40°54′04′ N, 072°16′50′ W” and, in their place, add the coordinates “40°54′04″ N, 072°16′50″ W”.

§ 165.1181 [Amended]

28. In § 165.1181(c)(1)(ii)(F), remove line 16, “37°47′02″ N, 122°23′04″W; thence to”.

PART 173—VESSEL NUMBERING AND CASUALTY AND ACCIDENT REPORTING

29. The authority citation for part 173 is revised to read as follows:

Authority: 31 U.S.C. 9701; 46 U.S.C. 2110, 6101, 12301, 12302; OMB Circular A-25; Department of Homeland Security Delegation No. 0170.

§ 173.1 [Amended]

30. In § 173.1, replace the word “presecibes” with the word “prescribes”.

§§ 173.21, 173.23, 173.29, and 173.77 [Amended]

31. In part 173, add the words “or her” immediately after the word “his” in the following places:

1. Section 173.21(a)(2).

2. Section 173.23.

3. Section 173.29(a) and (d).

4. Section 173.77(b)(2) and (e).

§ 173.57 [Amended]

32. In § 173.57(j), remove the word “skiis”, and add, in its place, the word “skis”.

PART 174—STATE NUMBERING AND CASUALTY REPORTING SYSTEMS

33. The authority citation for part 174 is revised to read as follows:

Authority: 46 U.S.C. 6101, 12302; Department of Homeland Security Delegation No. 0170.

§ 174.3 [Amended]

34. In § 174.3, in the definition of “owner”, add the word “or her” immediately after the word “him “.

§ 174.5 [Amended]

35. In § 174.5, add the words “or she” immediately after the word “he”.

Dated: June 17, 2003.
Joseph J. Angelo,
Director of Standards, Marine Safety, Security & Environmental Protection.

[FR Doc. 03-15742 Filed 6-24-03; 8:45 am]

BILLING CODE 4910-15-P